DEPARTMENT OF EDUCATION

Request for Information on Supporting the Reopening and Continuing Operation of Schools, Colleges and Universities, and Early Childhood Education Providers

AGENCY: Office of Elementary and Secondary Education; Office of Planning, Evaluation and Policy Development; Office of Postsecondary Education; Department of Education.

ACTION: Request for information.

SUMMARY: Consistent with the President's Executive order titled “Supporting the Reopening and Continuing Operation of Schools and Early Childhood Education Providers,” the U.S. Department of Education (Department) is requesting information to enable teachers, faculty, staff, schools, districts, institutions of higher education (IHEs), early childhood education providers, other places of educational instruction, and States to share lessons learned and best practices for operating safely and supporting all children and students, including children and students with disabilities, English learners, racial and ethnic minorities, and other underserved children and students, teachers, faculty, and staff during the pandemic. We will consider this information when populating a Safer Schools and Campuses Best Practices Clearinghouse. Responding to the request for information or undertaking any of the lessons learned included in the Clearinghouse are completely voluntary activities and are not prerequisites to receipt of any Federal funding.

DATES: We will receive submissions on a continuous basis until September 2021.

ADDRESSES: Submit your response to this request for information by email to Bestpracticesclearinghouse@ed.gov. We will not accept submissions by postal mail, commercial mail, hand delivery, or fax. To ensure that we do not receive duplicate copies, please submit each lesson learned or best practice only one time.

FOR FURTHER INFORMATION CONTACT: Victoria Hammer, Ph.D., Office of Elementary and Secondary Education, U.S. Department of Education, 400 Maryland Avenue SW, Washington, DC 20202-7240. Telephone: (202) 213-9771. Email: Victoria.Hammer@ed.gov.

If you use a telecommunications device for the deaf (TDD) or a text telephone (TTY), call the Federal Relay Service (FRS), toll-free, at 1-800-877-8339.

SUPPLEMENTARY INFORMATION: Every student in America deserves a high-quality education in a safe and inclusive environment. The novel coronavirus 2019 (COVID-19) pandemic has threatened this promise, which was already out of reach for many of this Nation's historically underserved students. In the wake of the pandemic, PreK-12 and higher education administrators, teachers, faculty, staff, early childhood education providers, counselors and advisors, custodians, school bus drivers, information technology, housing and food service, and other staff, and families have mobilized to go above and beyond to support the well-being and safety of all of our children and students during this crisis. Students and teaches, faculty, and staff alike have found new ways to teach and learn.

On January 21, 2021, President Biden issued Executive Order (E.O.) 14000, “Supporting the Reopening and Continuing Operation of Schools and Early Childhood Education Providers.” The E.O. directs the Department to take several actions to support States to safely open schools, PreK through IHEs, and ensure that all students receive a high-quality education. One of those actions is the development of a Safer Schools and Campuses Best Practices Clearinghouse (Clearinghouse) to enable teachers, faculty, staff, schools, districts, IHEs, early childhood education providers, other places of educational instruction, and States to share lessons learned and best practices for operating safely during the pandemic. The Clearinghouse will include a collection of lessons learned and best practices submitted by teachers, faculty, staff, schools, districts, IHEs, early childhood education providers, other places of educational instruction, and States describing approaches to operating during the COVID-19 pandemic that the submitters believe to have worked well in their contexts. It will also include a wide variety of resources that the Department and other Federal agencies have published in response to the pandemic. The purpose of this information sharing is so that teachers, faculty, staff, schools, districts, IHEs, early childhood education providers, other places of educational instruction, and States may learn from what others are doing around the Nation, and accelerate the return to safe in-person teaching and learning.

Through this request for information (RFI), we seek lessons learned and best practices for review and inclusion in the Clearinghouse on three topics: Safe and healthy environments; providing support to students to meet their social, emotional, mental health, academic, financial, and other needs, including access to food and other basic needs; and teacher, faculty, and staff well-being, professional development, and supports. The submissions should include substantive materials such as fact sheets, step-by-step guidance, policies or regulations, sample agreements among partners (e.g., between a local education agency and a local health agency, or an employee union), ready-to-implement resources, videos or other media focused on how to implement practices, and descriptions of how strategies have been implemented. Generally, submissions from the field should not include or reference materials such as commercial advertisements, vendor solicitations or products, and editorials. Submitters may include the actual materials or links to them.

Please include the following with each submission:

(1) Contact information.

(2) Topic (e.g., safe and healthy environments; providing supports for students; teacher, faculty, and staff well-being, professional development, and supports).

(3) Target audience (e.g., early childhood, PreK-12, postsecondary).

(4) A short description (two to three sentences).

(5) What makes it a lesson learned or best practice (e.g., it is based on local data regarding number of cases of COVID in the community, State or Federal guidance, research), including a summary of the impact and any evidence of positive outcomes and clarification of the type of setting the practice has been used in (e.g., rural/urban/suburban, public/private/proprietary, 2-year or 4-year higher education institution, Historically Black College or University/Tribally Controlled College or University/Minority Serving Institution; other educational settings such as correctional facilities).

(6) Whether there is a focus on racial equity and/or another equity focus, such as a focus on historically underserved populations including students with disabilities; English learners; students from low-income backgrounds; first-generation college students; students experiencing homelessness; students in or formerly in foster care; Lesbian, Gay, Bisexual, Transgender, Queer, Intersex, Asexual (LGBTQIA) students; undocumented students; student veterans and military-connected students; student parents; and international students.

The following table provides examples of the content for which we seek best practices and lessons learned.

Topic | Example content for lessons learned/best practices: Early childhood | Example content for lessons learned/best practices: K-12 | Example content for lessons learned/best practices: Postsecondary
Safe and healthy environments: School and campus approaches to implementing the Centers for Disease Control and Prevention's (CDC) recommended mitigation strategies and preparing for and sustaining in-person operations safely. This includes recommendations across all grade and age levels of students served, with focus on reopening buildings for the first time as well as keeping them open safely. | • Cleaning early childhood centers • Ensuring proper mask wearing for early childhood education centers | • Social distancing during class and in hallways between classes • Ensuring proper mask wearing • Use of pods with educational equity and staffing considerations • Protocols for extra-curricular activities | • Campus protocols for distancing, mask wearing, hand-washing stations, maximum occupants, etc. in classrooms and other campus locations (e.g., libraries, museums, sports facilities). • Institutions as testing and vaccination sites and sources of information for campus and surrounding communities. • Supporting students on and off campus who are in isolation/quarantine.
Providing Supports to Students: School and campus strategies to meet student social, emotional, mental health, academic, financial, and other needs, including access to food and other basic needs. This includes a specific focus on the most vulnerable learners and ensuring that resources provided by schools and campuses will be able to connect with and meet the needs of those disconnected from learning. | • Helping to ensure nutritional needs are met • Supporting children who have lost relatives or whose relatives have lost employment due to the pandemic | • Supporting students who have lost relatives or whose relatives have lost employment due to the pandemic • Re-engaging students who have been chronically absent during the pandemic or who have had significant adverse experiences • Strategies to identify and mitigate equity issues (e.g., access to broadband) | • Mental health and child-/elder care supports to students who are struggling with issues such as loss, isolation, significant family challenges, unemployment or financial distress and serving as the support system for others on campus. • Supporting students who are isolated from campus support networks. • Ensuring students can provide for basic needs such as food, housing, and health care.
|  |  | • Effective course management and delivery strategies.
|  |  | • Creating flexibilities in the academic calendar and class schedule.
|  |  | • Creating flexibilities in admissions and enrollment (e.g., test optional, transfer, policies, forgiving or delaying collection of outstanding balances).
|  |  | • Strategies to identify and mitigate equity issues (e.g., access to broadband).
|  |  | • Student financial support.
Teacher, Faculty, and Staff Well-Being, Professional Development, and Supports: School and campus strategies to address the social, emotional, health, and other needs of teachers, faculty, and staff. | • Mental health support for early childhood education providers • Assistance with child- or elder-care | • Stabilizing a qualified and diverse educator workforce • Assisting educators in providing effective virtual or hybrid instruction (including supporting the use of educational technology) • Supporting emotional well-being for all school personnel • Assistance with child- or elder-care • Accommodating staff with health risks | • Mental health supports to faculty and staff who are struggling with issues such as loss, isolation, significant family challenges, unemployment or financial distress and serving as the support system for others on campus. • Assistance with child- or elder-care. • Institutional policy changes that allow faculty and staff access to sick leave or other flexibilities if exposed to COVID-19.
|  |  | • Designing and delivering effective remote or hybrid instruction (e.g., synchronous versus asynchronous).

Each submitter will be notified of the Department's receipt of the submission. Note that the Department will not include all submissions in the Clearinghouse, and submissions that are included may be modified. Further, the Department will not include commercial product endorsements, nor any strategies that may lead a user to violate Federal law.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. Inclusion of or publishing of any submissions in the Clearinghouse does not necessarily equate endorsement from the U.S. Department of Education or from the Federal Government, nor is it a certification of the effectiveness of the suggestion.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that the public understands the Department's collection instructions, respondents provide the requested data in the desired format, reporting burden (time and financial resources) is minimized, collection instruments are clearly understood, and the Department can properly assess the impact of collection requirements on respondents.

A Federal agency may not conduct or sponsor a collection of information unless the Office of Management and Budget (OMB) approves the collection under the PRA and the corresponding information collection instrument displays a currently valid OMB control number. Notwithstanding any other provision of the law, no person is required to comply with, or is subject to penalty for failure to comply with, a collection of information if the collection instrument does not display a currently valid OMB control number.

The Department requested and was granted an emergency paperwork clearance from OMB for the data collection associated with this RFI. The Department will publish 60- and 30-day Federal Register notices as required by 5 CFR 1320.8(d), soliciting comments on the information collection.

We estimate that 300 respondents will submit materials such as fact sheets, step-by-step guidance, and ready-to-implement resources in response to this RFI. We estimate that it will take each respondent one hour and 30 minutes to review instructions, gather submission materials, and submit the requested information. This will result in a total burden of 300 responses and 450 hours to the public.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.
Erin McHugh,
Acting Assistant Secretary for Planning, Evaluation, and Policy Development.
Tiwanda Burse,
Deputy Assistant Secretary for Management and Planning, Office of Postsecondary Education.

[FR Doc. 2021-05588 Filed 3-16-21; 8:45 am]

BILLING CODE 4000-01-P